DEPARTMENT OF AGRICULTURE

Forest Service

Information Collection; Federal Excess Personal Property and Firefighter Property Program Administration

AGENCY: Forest Service, USDA.

ACTION: Notice; request for comment.

SUMMARY: In accordance with the Paperwork Reduction Act of 1995, the Forest Service is seeking comments from all interested individuals and organizations on the revised information collection, Federal Excess Personal Property (FEPP) and Firefighter Property (FFP) Program Administration.

DATES: Comments must be received in writing on or before November 24, 2020 to be assured of consideration. Comments received after that date will be considered to the extent practicable.

ADDRESSES: Comments concerning this notice should be addressed to: USDA, Forest Service, Attention Clint Cross, USDA Forest Service, Washington Office Fire and Aviation Management (FAM), 1400 Independence Avenue Southwest, Mailstop 1107, Washington, DC 20250. Comments may also be submitted via email to: clint.cross@usda.gov.

The public may inspect comments received at USDA Forest Service, Washington Office during normal business hours. Visitors are encouraged to call ahead to 202-205-0995 to facilitate entry to the building.

FOR FURTHER INFORMATION CONTACT: Clint Cross, Fire and Aviation Management by phone at 202-205-0995.

Individuals who use telecommunication devices for the deaf (TDD) may call the Federal Relay Service (FRS) at 1-800-877-8339 between 8 a.m. and 8 p.m., Eastern Standard Time, Monday through Friday.

SUPPLEMENTARY INFORMATION:

Title: Federal Excess Personal Property (FEPP) and Firefighter Property (FFP) Program Administration.

OMB Number: 0596-0223.

Type of Request: Extension without Revision.

Abstract: Federal Excess Personal Property (FEPP) and Firefighter Property (FFP) Program Cooperative Agreements are available to State forestry agencies. The program administration provides participating State agencies with surplus Department of Defense and other Federal agencies equipment and supplies to be used in firefighting and emergency services. The FEPP program loans property to the State who in turn sub-loans the equipment and supplies to fire departments. The FFP program transfers ownership of many types of property to either the State agency or the individual fire department.

A cooperative agreement collects information from the participating State agencies and outlines the requirements and rules for the cooperation. Each State forestry agency shall provide an Accountable Officer who will be responsible for the integrity of the program within their respective State. For this reason, FEPP and FFP collects the state forestry agency contact information, the information of the Accountable Officer, and the requirements of participation in the FEPP and FFP programs.

A cooperative agreement is prepared by each State forestry agency that desires to participate in one, or both programs. Participating State agencies must submit separate agreements if they desire to be participants in both programs. Agreements will be processed and maintained at the United States Department of Agriculture, Forest Service, Fire and Aviation Management, Landscapes and Partnerships Assistant Director area and in each Forest Service Regional Office.

Since the FEPP property belongs to the Forest Service, the agency inventory system facilitates reporting by state agencies to the Forest Service on the status and location of the property. State agencies use the electronic database (Federal Excess Property Management Information System or FEPMIS) to submit information regarding the property make, model, serial number, acquisition value, location, and acquisition date when an item is acquired or no longer needed. Forest Service property management technicians will collect the information from FEPMIS and enter it into the National Finance Center database (CPAIS-PP), as required by Federal Property Management Regulations. Forest Service property management officers will analyze the data collected to ensure that the property accountability is accurate, and no misuse of property is occurring.

The authority to loan surplus supplies to state agencies comes from the Federal Property and Administration Services Act of 1949, 40 U.S.C. and grants the authority for the FEPP program. Authority to donate excess supplies comes from 10 U.S.C., Subtitle A, Part IV, Chapter 153, 2576b which grants the authority for the FFP program.

Estimate of Annual Burden: 1 hour and 2 minutes.

Type of Respondents: State Foresters and State Agency FEPP property managers.

Estimated Annual Number of Respondents: 65.

Estimated Annual Number of Responses per Respondent: 302.

Estimated Total Annual Burden on Respondents: 570 hours.

Comment is Invited:

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the submission request toward Office of Management and Budget approval.

Jaelith Hall-Rivera,
Associate Deputy Chief, State & Private Forestry.

[FR Doc. 2020-21219 Filed 9-24-20; 8:45 am]

BILLING CODE 3411-15-P>